DEPARTMENT OF ENERGY

Office of Fossil Energy; National Coal Council

AGENCY: Department of Energy.

ACTION: Notice of open meeting.

SUMMARY: This notice announces a meeting of the National Coal Council. Federal Advisory Committee Act (Public Law 92-463, 86 Stat. 770) requires notice of these meetings be announced in the Federal Register.

DATES: Thursday, May 3, 2001, 9:00 AM to 12 Noon.

ADDRESSES: Hotel Washington, 515 15th Street, NW Washington, DC.

FOR FURTHER INFORMATION CONTACT: Margie D. Biggerstaff, U.S. Department of Energy, Office of Fossil Energy, Washington, DC 20585. Phone: 202/586-3867.

SUPPLEMENTARY INFORMATION: Purpose of the Committee: The purpose of the National Coal Council is to provide advice, information, and recommendations to the Secretary of Energy on matters relating to coal and coal industry issues.

Tentative Agenda:

• Call to order by Mr. Steven F. Leer, Chairman.

• Council Business.

• Remarks by Department of Energy representative.

• Presentation by Mr. Jack N. Gerard, National Mining Association on energy perspective from NMA.

• Presentation by Mr. Gary Nicholson, Pegasus Technology on neural network combustion optimization.

• Presentation by Ms. Carrie Moore, National Academy of Science on preventing coal waste impoundment failure and breakthroughs.

• Discussion of other business properly brought before the Committee.

• Public comment—10 minute rule.

• Adjournment.

Public Participation: The meeting is open to the public. The Chairperson of the Committee will conduct the meeting to facilitate the orderly conduct of business. If you would like to file a written statement with the Committee, you may do so either before or after the meeting. If you would like to make oral statements regarding any of the items on the agenda, you should contact Margie D. Biggerstaff at the address or telephone number listed above. You must make your request for an oral statement at least five business days prior to the meeting and reasonable provisions will be made to include the presentation on the agenda. Public comment will follow the 10 minute rule.

Transcripts: The transcript will be available for public review and copying within 30 days at the Freedom of Information Public Reading Room, 1E-190, Forrestal Building, 1000 Independence Avenue, S.W., Washington, D.C., between 9:00 a.m. and 4:00 p.m., Monday through Friday, except Federal holidays.

Issued in Washington, D.C. on March 27, 2001.
Belinda G. Hood,
Acting Deputy Advisory Committee, Management Officer.

[FR Doc. 01-8002 Filed 3-30-01; 8:45 am]

BILLING CODE 6450-01-P